FEDERAL COMMUNICATIONS COMMISSION

47 CFR Part 25

[IB Docket No. 00-248 and CC Docket No. 86-496, FCC 05-63]

Satellite Licensing Procedures

AGENCY: Federal Communications Commission.

ACTION: Final rule, announcement of effective date.

SUMMARY: The Federal Communications Commission announces that adopted rule revisions to streamline the procedures for non-routine earth station applications. Certain rules contained new or modified information requirements and were published in the Federal Register on June 2, 2005.

DATES: The revisions to 47 CFR 25.115, 25.130, 25.131, 25.132, 25.133, 25.134, 25.151, 25.154, 25.209, 25.211, 25.212, 25.220, and 25.277, published at 70 FR 32249, June 2, 2005, became effective on September 15, 2005.

FOR FURTHER INFORMATION CONTACT: Steven Spaeth, Assistant Division Chief, Satellite Division, International Bureau, Federal Communications Commission, at (202) 418-1539.

SUPPLEMENTARY INFORMATION: On September 15, 2005, the Office of Management and Budget (OMB) approved the information collection contained in §§ 25.115, 25.130, 25.131, 25.132, 25.133, 25.134, 25.151, 25.154, 25.209, 25.211, 25.212, 25.220, and 25.277, pursuant to OMB Control No. 3060-0678. Accordingly, the information collection requirements contained in these rules became effective on September 15, 2005.

List of Subjects in 47 CFR Part 25

Satellites.

Federal Communications Commission.
Marlene H. Dortch,
Secretary.

[FR Doc. 05-19517 Filed 9-27-05; 8:45 am]

BILLING CODE 6712-01-P